DEPARTMENT OF HOMELAND SECURITY

Coast Guard

[USCG-2006-25800]

Collection of Information Under Review by Office of Management and Budget: OMB Control Numbers: 1625-0012

AGENCY: Coast Guard, DHS.

ACTION: Request for comments.

SUMMARY: In compliance with the Paperwork Reduction Act of 1995, this request for comments announces that the Coast Guard is forwarding an Information Collection Request (ICR), abstracted below, to the Office of Information and Regulatory Affairs (OIRA) of the Office of Management and Budget (OMB) to request an extension of their approval of the following collections of information. The ICR is 1625-0012, Certificate of Discharge to Merchant Mariners. Our ICR describes the information we seek to collect from the public. Review and comments by OIRA ensure we only impose paperwork burdens commensurate with our performance of duties.

DATES: Please submit comments on or before January 16, 2007.

ADDRESSES: To make sure that your comments and related material do not reach the docket [USCG-2006-25800] or OIRA more than once, please submit them by only one of the following means:

(1)(a) By mail to the Docket Management Facility, U.S. Department of Transportation (DOT), room PL-401, 400 Seventh Street, SW., Washington, DC 20590-0001. (b) By mail to OIRA, 725 17th Street, NW., Washington, DC 20503, to the attention of the Desk Officer for the Coast Guard.

(2)(a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 or by contacting (b) OIRA at (202) 395-6566. To ensure your comments are received in time, mark the fax to the attention of Mr. Nathan Lesser, Desk officer for the Coast Guard.

(4)(a) Electronically through the Web site for the Docket Management System (DMS) at http://dms.dot.gov. (b) By e-mail to nlesser@omb.eop.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

A copy of the complete ICR is available through this docket on the Internet at http://dms.dot.gov, and also from Commandant (CG-611), U.S. Coast Guard Headquarters, room 10-1236 (Attn: Mr. Arthur Requina), 2100 2nd Street, SW., Washington, DC 20593-0001. The telephone number is (202) 475-3523.

FOR FURTHER INFORMATION CONTACT: Mr. Arthur Requina, Office of Information Management, telephone (202) 475-3523 or fax (202) 475-3929, for questions on these documents; or Ms. Renee V. Wright, Program Manager, Docket Operations, (202) 493-0402, for questions on the docket.

SUPPLEMENTARY INFORMATION: The Coast Guard invites comments on the proposed collection of information to determine whether the collection is necessary for the proper performance of the functions of the Department. In particular, the Coast Guard would appreciate comments addressing: (1) The practical utility of the collections; (2) the accuracy of the estimated burden of the collections; (3) ways to enhance the quality, utility, and clarity of the information that is the subject of the collections; and (4) ways to minimize the burden of collections on respondents, including the use of automated collection techniques or other forms of information technology.

Comments to DMS or OIRA must contain the OMB Control Number of the ICR addressed. Comments to DMS must contain the docket number of this request, [USCG 2006-25800]. For your comments to OIRA to be considered, it is best if OIRA receives them on or before the January 16, 2007.

Public participation and request for comments: We encourage you to respond to this request by submitting comments and related materials. We will post all comments received, without change, to http://dms.dot.gov, they will include any personal information you have provided. We have an agreement with DOT to use their Docket Management Facility. Please see the paragraph on DOT's “Privacy Act Policy” below.

Submitting comments: If you submit a comment, please include your name and address, identify the docket number for this request for comment [USCG-2006-25800], indicate the specific section of this document or the ICR to which each comment applies, and give the reason for each comment. You may submit your comments and material by electronic means, mail, fax, or delivery to the Docket Management Facility at the address under ADDRESSES, but please submit them by only one means. If you submit them by mail or delivery, submit them in an unbound format, no larger than 8½ by 11 inches, suitable for copying and electronic filing. If you submit them by mail and would like to know that they reached the Facility, please enclose a stamped, self-addressed postcard or envelope.

The Coast Guard and OIRA will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments.

This request provides a 30-day comment period required by OIRA. On September 19, 2006, the Coast Guard published a notice (71 FR 54830) and provided a 60-day comment period as required by 44 U.S.C. 3506(c)(2). That notice elicited no comments. The proposed information collection request (83-I form and supporting statement) we reference in that notice and filed in our docket, indicated a request for an extension of a currently approved collection, but erroneously made reference to a period other than the standard 3-year period. We have corrected that item on the 83-I to reflect the standard 3-year extension.

Information Collection Request

Title: Certificate of Discharge to Merchant Mariners.

OMB Control Number: 1625-0012.

Type of Request: Extension of a currently approved collection.

Affected Public: Masters or mates of shipping companies and merchant mariners.

Forms: CG-718A.

Abstract: Under 46 U.S.C. 10311, the Coast Guard prescribes the form of the Certificate of Discharge for Merchant Mariners. The Certificate provides merchant mariners with evidence of sea service to determine eligibility for various benefits, such as medical and retirement. The information collected is also used to show eligibility for an original, renewed, upgraded license or merchant mariner document to develop maritime sea service statistics, and to provide information to the U.S. Maritime Administration (MARAD) on the availability of mariners in a time of national emergency. The Coast Guard's Sea Service database captures the information from the Certificates of Discharge and is used by the Coast Guard's Regional Examination Centers to evaluate the qualifications of mariners who apply for originals, renewals, upgrades to their license or merchant mariners' documents. The information from the database is compiled annually by MARAD to prepare congressionally mandated reports on mariner availability. Currently, the CG Form 718A, Continuous Discharge Book, is only available in booklet format utilizing carbon copies. The Coast Guard is revising this form so that it may be provided to the maritime community for downloading via the Internet. The new version still requires vessel master and discharged mariner signatures. This effort is intended to alleviate issues regarding form availability.

Burden Estimate: The estimated burden has decreased from 4,500 hours to 1,800 hours a year.

Dated: December 8, 2006.
R.T. Hewitt,
Rear Admiral, Assistant Commandant for Command, Control, Communications, Computers and Information Technology.

[FR Doc. E6-21284 Filed 12-13-06; 8:45 am]

BILLING CODE 4910-15-P